DEPARTMENT OF ENERGY

Federal Energy Regulatory Commission

Combined Notice of Filings

Take notice that the Commission has received the following Natural Gas Pipeline Rate and Refund Report filings:

Docket Numbers: RP95-408-078.

Applicants: Columbia Gas Transmission, LLC.

Description: Columbia Gas Transmission, LLC submits its annual report regarding Columbia's profits resulting from Columbia's sales of base gas.

Filed Date: 04/28/2011.

Accession Number: 20110428-5335.

Comment Date: 5 p.m. Eastern Time on Tuesday, June 14, 2011.

Docket Numbers: RP11-2036-001.

Applicants: Natural Gas Pipeline Company of America.

Description: Natural Gas Pipeline Company of America LLC submits tariff filing per 154.205(b): Amended Negotiated Rate Filing to be effective 4/26/2011 under RP11-2036 Filing Type: 600.

Filed Date: 05/25/2011.

Accession Number: 20110525-5090.

Comment Date: 5 p.m. Eastern Time on Monday, June 13, 2011.

Docket Numbers: RP11-1429-001.

Applicants: Trans-Union Interstate Pipeline, L.P.

Description: Trans-Union Interstate Pipeline, L.P. submits tariff filing per: Supplement to Order 587-U Compliance Filing to be effective N/A.

Filed Date: 06/08/2011.

Accession Number: 20110608-5094.

Comment Date: 5 p.m. Eastern Time on Monday, June 20, 2011.

Docket Numbers: CP09-54-009.

Applicants: Ruby Pipeline, L.L.C.

Description: Third Petition to Amend the Application of Ruby Pipeline, L.L.C.

Filed Date: 06/07/2011.

Accession Number: 20110607-5140.

Comment Date: 5 p.m. Eastern Time on Friday, June 17, 2011.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Dated: June 9, 2011.
Nathaniel J. Davis, Sr.,
Deputy Secretary.

[FR Doc. 2011-15421 Filed 6-20-11; 8:45 am]

BILLING CODE 6717-01-P